FEDERAL RESERVE SYSTEM

Notice of Proposals to Engage in Permissible Nonbanking Activities or to Acquire Companies that are Engaged in Permissible Nonbanking Activities; Correction

This notice corrects a notice (FR Doc. 01-3005) published on pages 9085 and 9086 of the issue for Tuesday, February 6, 2001.

Under the Federal Reserve Bank of Chicago heading, the entry for America United Bancorp, Inc., Schaumburg, Illinois, is revised to read as follows:

A. Federal Reserve Bank of Chicago (Phillip Jackson, Applications Officer) 230 South LaSalle Street, Chicago, Illinois 606901-1413:

1. AmericaUnited Bancorp, Inc., Schaumburg, Illinois; proposes to retain and continue to engage de novo in the nonbanking activity of extending credit and servicing loans, pursuant to § 225.28(b)(1) of Regulation Y.

Comments on this application must be received by February 20, 2001.

Board of Governors of the Federal Reserve System, February 12, 2001.
Robert deV. Frierson
Associate Secretary of the Board.

[FR Doc. 01-3895 Filed 2-15-01; 8:45 am]

BILLING CODE 6210-01-S